OFFICE OF PERSONNEL MANAGEMENT

5 CFR Part 960

[Docket ID: OPM-2025-0005]

RIN 3206-AO82

Elimination of Federal Executive Boards

AGENCY: Office of Personnel Management.

ACTION: Final rule.

SUMMARY: As directed by the Executive Order “Commencing the Reduction of the Federal Bureaucracy” issued on February 19, 2025, the U.S. Office of Personnel Management (OPM) removes the implementing regulations for the Federal Executive Boards.

DATES: This final rule is effective on March 21, 2025.

FOR FURTHER INFORMATION CONTACT: Lindsey Griffing, Workforce Policy and Innovation, U.S. Office of Personnel Management, at FEBForward@opm.gov or by phone at (202) 606-1079.

SUPPLEMENTARY INFORMATION:

Background and Legal Authority

This final rule is issued pursuant to Executive Order (E.O.) 14217 “Commencing the Reduction of the Federal Bureaucracy” (90 FR 10577, February 25, 2025), which directed the Director of the OPM to “initiate the process to withdraw the regulations at title 5, part 960, Code of Federal Regulations, thereby eliminating the Federal Executive Boards.” This action is taken under the authority vested in the President by the Constitution and the laws of the United States of America, including 5 United States Code (U.S.C.) 301 and 3 U.S.C. 301.

The Federal Executive Boards (FEBs) were established by President John F. Kennedy to increase the effectiveness and economy of Federal agencies by coordinating Government activities outside of the Washington, DC area. Memorandum on the Need for Greater Coordination of Regional and Field Activities of the Government—November 14, 1961, 1961 Pub. Papers 717 (1961) (“1961 PM”). The original establishment of FEBs was not mandated by statute but was undertaken solely through executive action by the President. The President transferred authority for the FEBs to OPM in 1982, and OPM promulgated the part 960 regulations under which the FEBs “are organized and function.” (49 FR 34193, Aug. 29, 1984). E.O. 14217 revoked the 1961 PM and directed this regulatory action. Just as the creation of the FEBs was consistent with the President's authority to organize the executive branch as recognized in title 5 of the U.S.C., similarly the elimination of the FEBs falls within executive discretion.

As directed by E.O. 14217, all FEBs have ceased operations. All property, records, and unexpended funds associated with FEBs have been returned to their originating agencies or disposed of and archived by OPM according to applicable Federal property management regulations. Personnel formerly assigned to FEBs are being notified of reduction in force (RIF) procedures or reassigned, in accordance with applicable law, regulation and policy. Essential coordination functions previously performed by FEBs have been reassigned to appropriate Federal agencies as determined by OPM and agency heads.

This final rule removes the regulations governing FEBs at 5 CFR part 960, which were issued pursuant to the authority of the 1961 PM (49 FR 34193). Because E.O. 14217 revoked the 1961 PM, the authority under which OPM implemented part 960 has been eliminated. In accordance with the E.O., immediate action was taken to disband the FEBs and implement a RIF for associated personnel prior to this regulatory action. This final rule removes the obsolete regulations from the Code of Federal Regulations.

Impact of This Rulemaking

The elimination of FEBs will reduce administrative overhead by eliminating a bureaucratic organization the President has determined is unnecessary. OPM anticipates that savings to the Government will outweigh any costs associated with the transition.

Regulatory Compliance

1. Administrative Procedure Act

Pursuant to 5 U.S.C. 553(b)(B), OPM finds that there is good cause to issue this final rule without prior notice and comment. In E.O. 14217, the President mandated the immediate elimination of FEBs, which has already been implemented. This final rule merely codifies actions already taken under direct Presidential authority and specific Presidential direction. OPM lacks any discretion in this rulemaking action. In addition, OPM now lacks authority for the part 960 regulations. No amount of public input could give OPM the authority to reconstitute the FEBs under a presidential memorandum that has been rescinded and ceased to have any effect. Therefore, notice and public comment procedures are unnecessary.

Similarly, pursuant to 5 U.S.C. 553(d)(3), OPM finds that there is good cause to make this final rule effective immediately upon publication. This final rule codifies actions already taken under direct Presidential authority and removes obsolete regulations that have no legal effect. Removing the regulations immediately provides transparency and may reduce confusion as the FEBs have already been eliminated pursuant to E.O. 14217. Further, a delayed effective date serves no practical purpose here since no adjustment period is needed for any regulated party to come into or otherwise prepare for compliance.

2. Regulatory Review

OPM has examined the impact of this rule as required by E.O.s 12866 and 13563, which direct agencies to assess all costs and benefits of available regulatory alternatives and, if regulation is necessary, to select regulatory approaches that maximize net benefits (including potential economic, environmental, public, health, and safety effects, distributive impacts, and equity). A regulatory impact analysis must be prepared for rules with effects of $100 million or more in any one year. This rulemaking does not reach that threshold but has otherwise been designated as a “significant regulatory action” under section 3(f) of E.O. 12866, as supplemented by E.O. 13563. This action is considered an E.O. 14192 deregulatory action.

3. Regulatory Flexibility Act

The Director of the OPM certifies that this rulemaking will not have a significant economic impact on a substantial number of small entities because the rule will apply only to Federal agencies and employees.

4. Federalism

This rulemaking will not have substantial direct effects on the States, on the relationship between the national government and the States, or on distribution of power and responsibilities among the various levels of government. Therefore, in accordance with E.O. 13132, the Director of the OPM certifies that this rulemaking does not have sufficient federalism implications to warrant preparation of a Federalism Assessment.

5. Unfunded Mandates Reform Act

Section 202 of the Unfunded Mandates Reform Act of 1995 (UMRA) requires that agencies assess anticipated costs and benefits before issuing any rule that would impose spending costs on State, local, or Tribal governments in the aggregate, or on the private sector, in any 1 year of $100 million in 1995 dollars, updated annually for inflation. That threshold is currently approximately $206 million. This rulemaking will not result in the expenditure by State, local, or Tribal governments, in the aggregate, or by the private sector, in excess of the threshold. Thus, no written assessment of unfunded mandates is required.

7. Paperwork Reduction Act

This rulemaking does not impose any reporting or recordkeeping requirements under the Paperwork Reduction Act of 1995 (44 U.S.C. chapter 35).

List of Subjects in 5 CFR Part 960

Organization and functions (Government agencies).

Office of Personnel Management.
Jerson Matias,
Federal Register Liaison.

For the reasons stated in the preamble, and under the authority of E.O. 14217, OPM removes 5 CFR part 960.

[FR Doc. 2025-04814 Filed 3-20-25; 8:45 am]

BILLING CODE 6325-39-P